DEPARTMENT OF ENERGY

10 CFR Part 430

[EERE-2017-BT-STD-0057]

Energy Conservation Program: Energy Conservation Standards for Rough Service Lamps and Vibration Service Lamps

AGENCY: Office of Energy Efficiency and Renewable Energy, Department of Energy.

ACTION: Final rule.

SUMMARY: The U.S. Department of Energy (DOE) is publishing this final rule in order to codify in the Code of Federal Regulations certain backstop requirements for rough service lamps and vibration service lamps that Congress prescribed in the Energy Policy and Conservation Act. These backstop requirements apply as a result of the subject lamps exceeding sales thresholds specified in the statute. In particular, this rule applies a statutorily-established 40-watt maximum energy use and packaging limitation to rough service lamps and vibration service lamps.

DATES: The effective date of this rule is January 25, 2018. The incorporation by reference of a certain publication listed in this rulemaking is approved by the Director of the Federal Register on January 25, 2018.

ADDRESSES: The docket is available for review at http://www.regulations.gov. All documents in the docket are listed in the http://www.regulations.gov index. However, some documents listed in the index, such as those containing information that is exempt from public disclosure, may not be publicly available.

The docket web page can be found at http://www.regulations.gov/#!docketDetail;D=EERE-2017-BT-STD-0057. The docket web page will contain simple instructions on how to access all documents in the docket.

FOR FURTHER INFORMATION CONTACT: Ms. Celia Sher, U.S. Department of Energy, Office of the General Counsel, GC-33, 1000 Independence Avenue SW, Washington, DC 20585-0121. Telephone: (202) 287-6122. Email: Celia.Sher@hq.doe.gov.

Appliance Standards staff, U.S. Department of Energy, Office of Energy Efficiency and Renewable Energy, Building Technologies, EE-2J, 1000 Independence Avenue SW, Washington, DC 20585-0121. Telephone: (202) 287-1445. Email: ApplianceStandardsQuestions@ee.doe.gov.

SUPPLEMENTARY INFORMATION: This final rule incorporates by reference into 10 CFR part 430 the following commercial standard: NSF/ANSI 51-2007 (“NSF/ANSI 51”), Food equipment materials, revised and adopted April 2007. Copies of NSF/ANSI 51 may be purchased from NSF International, P.O. Box 130140, 789 North Dixboro Road, Ann Arbor, MI 48113-0140, 1-800-673-6275, or go to http://www.nsf.org.

For a further discussion of this standard, see section IV.M.

Table of Contents

I. Background

II. Summary of This Action

III. Final Action

IV. Procedural Issues and Regulatory Review

A. Review Under Executive Orders 12866 and 13563

B. Review Under the Regulatory Flexibility Act

C. Review Under the Paperwork Reduction Act

D. Review Under the National Environmental Policy Act of 1969

E. Review Under Executive Order 13132

F. Review Under Executive Order 12988

G. Review Under the Unfunded Mandates Reform Act of 1995

H. Review Under the Treasury and General Government Appropriations Act, 1999

I. Review Under Executive Order 12630

J. Review Under the Treasury and General Government Appropriations Act, 2001

K. Review Under Executive Order 13211

L. Congressional Notification

M. Description of Materials Incorporated by Reference

V. Approval of the Office of the Secretary

I. Background

Pursuant to 42 U.S.C. 6295(l)(4) of the Energy Policy and Conservation Act of 1975 (EPCA),¹ Public Law 94-163 (42 U.S.C. 6291-6317, as codified), DOE is required to collect unit sales data for calendar years 2010 through 2025, in consultation with the National Electrical Manufacturers Association (NEMA), for rough service, shatter-resistant, 3-way incandescent lamps, 2,601-3,300 lumen general service incandescent lamps, and vibration service lamps. For each of these five lamp types, DOE, in consultation with NEMA, must also construct a model based on coincident economic indicators that closely match the historical annual growth rates of each lamp type to provide a neutral comparison benchmark estimate of future unit sales. (42 U.S.C. 6295(l)(4)(B). Section 321(a)(3)(B) of the Energy Independence and Security Act of 2007 (EISA 2007) in part amends paragraph 325(l) of EPCA by adding paragraphs (4)(D) through (H), which direct DOE to initiate an accelerated rulemaking to establish an energy conservation standard for these lamps if the actual annual unit sales of any of the lamp types in any year between 2010 and 2025 exceed the benchmark estimate of unit sales by at least 100 percent (i.e., are greater than 200 percent of the anticipated sales). (42 U.S.C. 6295(l)(4)(D)-(H)) If the Secretary of Energy (Secretary) does not complete the accelerated rulemakings within one year from the end of the previous calendar year during which predicted sales were exceeded, there is a “backstop requirement” for each lamp type, which would establish, by statute, energy conservation standard levels and related requirements. Id. For 2,601-3,300 lumen general service incandescent lamps, this backstop is automatically imposed once the benchmark unit sales estimates are exceeded.

¹ All references to EPCA refer to the statute as amended through the Energy Efficiency Improvement Act of 2015, Public Law 114-11 (April 30, 2015).

By this action, DOE is placing in the Code of Federal Regulations (CFR) the statutory backstop requirements for rough service lamps and vibration service lamps prescribed in 42 U.S.C. 6295(l)(4)(D)(ii) and (E)(ii). These sections, which were added by EISA 2007, establish energy conservation standard levels and related requirements for rough service lamps and vibration service lamps if DOE does not complete a rulemaking in an accelerated 1 year period after issuing a finding that the specified benchmark unit sales estimates had been exceeded.

II. Summary of This Action

Section 321(a)(1)(B) of EISA 2007 amended section 321(30) of EPCA by adding the definition of “vibration service lamp.” A “vibration service lamp” means a lamp that—(i) has filament configurations that are C-5, C-7A, or C-9, as listed in Figure 6-12 of the 9th Edition of the IESNA [Illuminating Engineering Society of North America] Lighting Handbook or similar configurations; (ii) has a maximum wattage of 60 watts; (iii) is sold at retail in packages of 2 lamps or less; and (iv) is designated and marketed specifically for vibration service or vibration-resistant applications, with—(I) the designation appearing on the lamp packaging; and (II) marketing materials that identify the lamp as being vibration service only. (42 U.S.C. 6291(30)(AA))

Section 321(a)(1)(B) of EISA 2007 amended section 321(30) of EPCA by adding the definition of “rough service lamp.” A “rough service lamp” means a lamp that—(i) has a minimum of 5 supports with filament configurations that are C-7A, C-11, C-17, and C-22 as listed in Figure 6-12 of the 9th edition of the IESNA Lighting handbook, or similar configurations where lead wires are not counted as supports; and (ii) is designated and marketed specifically for “rough service” applications, with—(I) the designation appearing on the lamp packaging; and (II) marketing materials that identify the lamp as being for rough service. (42 U.S.C. 6291(30)(X))

DOE published a notice of data availability (NODA) in April 2016, which indicated that the shipments of vibration service lamps were over 7 million units in 2015. This equates to 272.5 percent of the benchmark estimate, which was 2,594,000 units. 81 FR 20261, 20263 (April 7, 2016). Therefore, vibration service lamps exceeded the statutory threshold for the first time, thus triggering an accelerated rulemaking to be completed no later than December 31, 2016. Id. Furthermore, NEMA submitted revised data for rough service lamps following the publication of the April 2016 NODA at 81 FR 20261. The revised data showed sales of 10,914,000 rough service lamps in 2015, which exceeded 100% of the benchmark estimate of 4,967,000 units for 2015.² This resulted in a requirement for DOE to initiate an accelerated rulemaking for rough service lamps. In an October 2016 notice of proposed definition and data availability (NOPDDA), DOE indicated it must conduct an energy conservation standards rulemaking for rough service lamps to be completed no later than the end of the 2016 calendar year. 81 FR 71794, 71800 (Oct. 18, 2016).

² See ex parte memorandum published in the docket at https://www.regulations.gov/document?D=EERE-2013-BT-STD-0051-0075.

If the Secretary does not complete these accelerated rulemakings within the one year time frame accorded by EPCA, the statute provides a backstop requirement that becomes an energy conservation standard for vibration service and rough service lamps. This backstop requirement would require vibration service lamps to: (1) Have a maximum 40-watt limitation and (2) be sold at retail only in a package containing one lamp. 42 U.S.C. 6295(l)(4)(E)(ii). For rough service lamps, the backstop requires that the lamps: (1) Have a shatter-proof coating or equivalent technology that complies with NSF/ANSI 51 and is designed to contain the glass if the glass envelope of the lamp is broken and to provide effective containment over the life of the lamp; (2) have a maximum 40-watt limitation; and (3) be sold at retail only in a package containing one lamp. 42 U.S.C. 6295(l)(4)(D)(ii).

Since unit sales for vibration service lamps and rough service lamps exceeded 200 percent of the benchmark estimate in 2015, and DOE did not complete an energy conservation standards rulemaking for these lamps by the end of calendar year 2016, the backstop requirement was triggered, without discretion, and is now applicable. For this final rule, DOE codifies at 10 CFR 430.32 the statutory requirements that apply to rough service lamps and vibration service lamps in 42 U.S.C. 6295(l)(4)(D)(ii) and (E)(ii). These energy conservation levels and requirements apply to rough service lamps and vibration service lamps manufactured on or after January 25, 2018. While DOE did not meet its statutory deadline to complete an accelerated rulemaking by the end of calendar year 2016, an effective date of January 25, 2018, remains generally consistent with the intent of Congress to provide for a one calendar year period between imposition of the energy conservation standard and compliance with such standard. The Secretary will continue to collect and model data for rough service lamps and vibration service lamps for two years after this effective date, in accordance with 42 U.S.C. 6295(l)(4)(I)(ii).

III. Final Action

DOE has determined, pursuant to 5 U.S.C. 553(b)(B), that prior notice and an opportunity for public comment on this final rule are unnecessary. DOE is merely placing in the CFR, verbatim, certain requirements and wattage limitations for rough service lamps and vibration service lamps prescribed by Congress in EPCA. DOE is not exercising any of the discretionary authority that Congress has provided to the Secretary of Energy in EPCA. As such, prior notice and an opportunity for comment would serve no purpose in this instance. DOE, therefore, finds that good cause exists to waive prior notice and an opportunity to comment for this rulemaking.

IV. Procedural Issues and Regulatory Review

A. Review Under Executive Orders 12866 and 13563

This final rule is a “significant regulatory action” under section 3(f)(1) of Executive Order 12866 and the principles reaffirmed in Executive Order 13563. Accordingly, this action was subject to review by the Office of Information and Regulatory Affairs (OIRA) in the Office of Management and Budget (OMB).

Regulatory Impact Analysis

Summary

The purpose of this Regulatory Impact Analysis (RIA) is to describe the range of potential costs related to applying the statutorily-established 40 watt maximum energy use and packaging limitation to rough and vibration service lamps as well as the shatter-proof coating requirement for rough service lamps. This RIA presents three separate consumer substitution scenarios due to the elimination of greater than 40 watt rough and vibration service lamps from the market. These three scenarios provide lower and upper bounds of the range of potential monetized costs, but they do not take into account lost utility caused by the substitutions. DOE estimates this rule to eliminate 80% of the rough and vibration service lamp market. DOE took this bounding approach because data are unavailable to forecast consumer response to the rule.

In the first scenario, consumers are assumed to substitute rough and vibration service lamps greater than 40 watts with rough and service lamps less than 40 watts. In the second scenario, consumers are assumed to substitute greater than 40 watt rough and vibration service lamps with shatter-resistant lamps greater than 40 watts. In the third scenario, consumers are assumed to substitute greater than 40 watt rough and vibration service lamps with LEDs emitting equivalent lumens as the lamps they would replace. In all three scenarios, consumers would still have access to rough and vibration service lamp less than 40 watts but would pay more per unit due to the new packaging limitations and shatter proofing requirements.

Table 1 summarizes the three substitution scenarios as potential incremental costs and market value associated with this rulemaking. For a lower bound, the rule could increase aggregate consumer spending by $14.7 million if all consumers substituted greater than 40 watt rough and vibration service lamps with those less than 40 watts. For an upper bound, the rule could increase consumer spending by $72.8M if all consumers substituted greater than 40 watt rough and vibration service lamps with LEDs that emit equivalent lumens. In practice, there will likely be a mix of market responses across consumers. In the lower bound estimated especially there is likely to be additional, non-quantified lost utility because consumers are substituting lower wattage bulbs that deliver less light.

Table 1
| Substitution scenarios *: <40W rough/vibration service lamps | Substitution scenarios *: Shatterproof lamps (>40W) | Substitution scenarios *: LEDs (equivalent lumens)
Incremental Cost | $1.33 (rough) $0.02 (vibration) | $1.31 | $2.91
Market Value | $14.7M | 49.8M | 72.8M
* Includes increased cost for packaging and shatter proofing for <40W rough and vibration service lamps. A more detailed summary of those costs are provided in the Consumer Impacts section.

Background

These requirements apply as a result of these lamps exceeding sales thresholds specified as required by EPCA.

Pursuant to reporting and tracking requirements in 42 U.S.C. 6295(l)(4)(D) and (E), NEMA reported to DOE the following figures for rough service lamp and vibration service lamp shipments for the year 2015:

Rough Service Lamps 10,914,000

Vibration Service Lamps 7,071,000

Because unit sales for rough service and vibration service lamps exceeded 100 percent of the neutral benchmark estimate of unit sales in 2015,³ and DOE did not complete an accelerated rulemaking establishing standards for these lamps within the statutorily required timeframe, EPCA mandates the following backstop requirement that becomes an energy standard for vibration and rough service lamps. This backstop requirement requires vibration service lamps to: (1) Have a maximum 40-watt limitation and (2) be sold at retail only in a package containing one lamp. 42 U.S.C. 6295(l)(4)(E)(ii). For rough service lamps, the backstop requires that the lamps: (1) Have a shatter-proof coating or equivalent technology that complies with NSF/ANSI 51 and is designed to contain the glass if the glass envelope of the lamp is broken and to provide effective containment over the life of the lamp; (2) have a maximum 40-watt limitation; and (3) be sold at retail only in a package containing one lamp. 42 U.S.C. 6295(l)(4)(D)(ii). These energy conservation levels and requirements apply to rough service and vibration service lamps manufactured on or after January 25, 2018.

³ See https://www.regulations.gov/document?D=EERE-2011-BT-NOA-0013-0002.

Market Impacts

The practical effect of the backstop requirement is to remove rough and vibration service lamps over 40 watts from the market starting on January 25, 2018. DOE conducted an order of magnitude analysis to assess the likely costs associated with this action. As a first step, DOE looked at the revenue of the lamps above 40 watts that will no longer be generated by industry.

Because DOE was previously prohibited from collecting data regarding incandescent lamps, including the subject lamps, DOE does not have data regarding the percentage of lamps sold of both types above 40 watts. DOE estimates that about 80 percent of rough and vibration service lamps are over 40 watts and will therefore no longer be available. Based on a review of home center prices, DOE concluded that these lamps sell for an average of $1.95 per lamp. Using this average sales price of $1.95, at the volumes reported in 2015, the market for rough and vibration service lamps greater than 40 watts was just over $28 million, out of a total market value of just over $35 million for all rough and vibration service lamps. Table 2 summarizes estimated current revenue associated with the subject lamps greater than 40 watts.

Table 2
| Rough service lamps | Vibration service lamps
Shipments in 2015 | 10,914,000 | 7,071,000
Average Sales Price | $1.95
Percent of Sales >40W | 80%
Lost total revenue from >40W lamp removal from market | $17,026,000 | $11,031,000
Total | $28,057,000

Consumer Impacts

In the absence of rough and vibration service lamps above 40 watts, DOE believes that all or most consumers of these lamps will purchase a replacement product because the demand for light bulbs is expected to remain constant and not diminish significantly as a result of certain products exiting the market, even though substitute bulbs may be more costly. Consumers have multiple replacement options presented in the following three scenarios: (1) Rough or vibration service lamps less than 40 watts, (2) shatter-resistant lamps greater than 40 watts or (3) LED lamps emitting equivalent lumens. DOE does not attempt here to account for the reasons behind a consumer's choice to purchase a specific lamp type, hence a set of scenarios that represent lower and upper bounds of the incremental monetized cost of this final rule are presented. For rough and vibration service lamps less than 40 watts, consumers will pay more per unit via pass though costs due to the backstop packaging and shatterproof coating requirements. These costs are built into the three scenarios, but are detailed here for transparency.

For the cost of packaging and shatter proofing requirement of the backstop provisions, DOE estimates imposition of the required backstop standard would result in a modest market cost increase related to the new packaging requirements for vibration and rough service lamps, of approximately $0.02 per unit, and to the new shatterproof coating requirements for rough service lamps of approximately $1.31 per unit. For vibration service lamps, DOE estimates additional packaging costs to be roughly $28,000. For rough service lamps, DOE estimates additional packaging costs totaling $44,000. For rough service lamps, DOE estimates shatterproof coating costs to be about $2,852,000.

Table 3 summarizes these incremental costs for packaging and shatterproofing rough and vibration service lamps less than 40 watts under the estimated current 20 percent market profile when the rule is effective.

Table 3
| Rough service lamps | Vibration service lamps
Shipments in 2015 | 10,914,000 | 7,071,000
Percent of Sales for <40W | 20%
Unit Cost for Packaging | $0.02
Unit Cost for Shatter proofing | $1.31 | NA
Increased total cost for packaging for <40W | $44,000 | $28,000
Increased total cost for shatter proofing for <40W | $2,852,000 | NA
Total | $2,924,000

Substitution Scenario 1: Rough or Vibration Service Lamps Less Than 40 Watts

Any lost opportunity to purchase rough service and vibration service lamps over 40 watts is diminished by the fact that consumers will still be able to purchase the 40 watt versions of these lamps after the backstop requires compliance. These lamps will require the same packaging and shatter proofing provisions so the substitution cost will increase. There is some utility lost associated with this substitution, primarily due to the fact that the lumen output from a 40 watt lamp is typically less than it would be for a lamp at a higher wattage. However, utility is not included in the calculation. Table 4 summarizes the incremental costs of the rule under this substitution scenario. Note that the costs for packaging and shatter proofing are higher than those shown in Table 3 because in this scenario, all bulbs will need to have these costs added, not just the ones currently <40 watts.

Table 4
| Rough service lamps | Vibration service lamps
Shipments in 2015 | 10,914,000 | 7,071,000
Percent of Sales >40W and <40W | 100%
Unit Cost for Packaging | $0.02
Unit Cost for Shatter proofing | $1.31 | NA
Increased total cost for packaging for <40W | $218,000 | $141,000
Increased total cost for shatter proofing for <40W | $14,297,000 | NA
Subtotal | $14,516,000 | $141,000
Total | $14,657,000

Substitution Scenario 2: Shatter-Resistant Lamps Greater Than 40 Watts

Consumers could choose to purchase an existing shatter-resistant lamp over 40 watts as there is significant overlap in application among rough service, vibration service, and shatter-resistant lamps. Many of these products are already co-named (e.g., a rough service and vibration service lamp or a rough service and shatter-resistant lamp) and the requirement to add a shatter-proof coating as part of the backstop requirement is evidence that shatter-resistant lamps can be used in the same applications as rough service lamps. DOE expects minimal loss in consumer utility from this substitution. Shatter-resistant lamp sales have not exceeded their specified threshold. As a result, DOE has not been obligated to establish standards for this lamp type. Therefore, they are available using incandescent technology and are the lowest cost replacement option. Compared to a rough or vibration service lamp, a shatter-resistant lamp is about 67 percent more expensive, or an incremental increase of $1.31.⁴ Table 5 summarizes the incremental costs for shatter-resistant lamps (inclusive of cost increases for rough and vibration service lamps less than 40 watts currently purchased) under this scenario.

⁴ This value was based on a comparison of Home Center prices of rough service lamps and shatter-resistant lamps. The manufacturer, wattage, shape, and correlated color temperature (CCT) were the same between the lamps being compared.

Table 5
| Rough service lamps | Vibration service lamps
Shipments in 2015 | 10,914,000 | 7,071,000
Percent of Sales >40W | 80%
Percent of Sales <40W | 20%
Average Sales Price | $1.95
Shatter-resistant lamp sales price | $3.26
Incremental sales price increase | $1.31
Increased cost for shatter-resistant lamps due to >40W removal from market | $28,433,000 | $18,421,000
Increased total cost for packaging for <40W | $44,000 | $28,000
Increased total cost for shatter proofing for <40W | $2,852,000 | NA
Subtotal | $31,329,000 | $18,450,000
Total | $49,778,000

Substitution Scenario 3: LED Lamps With Equivalent Lumens

Alternatively, consumers could choose to purchase a more efficient light-emitting diode (LED) lamp as a replacement. LED lamps can be used without modification in rough service applications, vibration service applications, or applications that require shatter-resistance because of the materials used in their construction and the absence of a filament. While LED lamps are currently about 149 percent more expensive,⁵ or an incremental increase of $2.91, than rough and vibration service lamps, they are more widely available than shatter-resistant lamps and also have features that consumers would find desirable, such as longer lifetimes and lower wattages (while maintaining the same amount of light). Further, DOE notes that prices for LED lamps continue to decrease in the marketplace. Table 6 summarizes the incremental costs for LED lamps (inclusive of cost increases for rough and vibration service lamps less than 40 watts) under this scenario.

⁵ This value was based on a comparison of Home Center prices of rough service lamps and LED lamps. The manufacturer, wattage-equivalency, shape, and CCT were the same between the lamps being compared.

Table 6
| Rough service lamps | Vibration service lamps
Shipments in 2015 | 10,914,000 | 7,071,000
Percent of Sales >40W | 80%
Percent of Sales <40W | 20%
Average Sales Price | $1.95
LED lamp sales price | $4.86
Incremental sales price increase | $2.91
Increased cost for shatter-resistant lamps due to >40W removal from market | $42,394,000 | $27,467,000
Increased total cost for packaging for <40W | $44,000 | $28,000
Increased total cost for shatter proofing for <40W | $2,852,000 | NA
Subtotal | $45,290,000 | $27,495,000
Total | $72,785,000

Lifecycle Costs

In addition to considering the upfront cost of purchasing the lightbulb, DOE also considered the lifecycle costs over the expected lifetime of the lamps. The factors that the agency considered for the lifecycle cost estimate were the upfront price of the lamp, lifetime of the lamp, usage time of the lamp, and the cost of electricity. DOE estimated the lifecycle costs for rough service lamps compared to LED lamps (unnecessary for the incandescent substitution scenarios) under the following scenario. If the LED bulb can be used for the rough service applications, the cost of operating it for 3 hours a day is $1.32 per year (3 hours a day at $.11 a kilowatt hour). The bulb is expected to have a life of about 13 years. The lifecycle cost of buying the bulb and using it for its life would be about $22.00. A 75 watt rough service incandescent bulb costs $.50 up front, but $9.03 a year to use 3 hours a day (see the lighting facts here: https://www.lightbulbs.com/product/bulbrite-107275#). The life of the rough service lamp is 4.6 years. Over that time its lifecycle costs approximately $42.00 to buy and use a rough service lamp, and it only lasts on average about as third as long.

In this example, the LED lifecycle costs are $22.00 to use it 3 hours a day for 13 years vs. $42.00 for the rough service incandescent for only 4.6 years. The lower LED lifecycle costs suggests that consumers are buying rough service incandescent lamps for reasons that may not be easily quantified. For example, consumers could purchase these lamps and put them in places where they are rarely used, such as a pantry or a closet. Then it makes sense to buy an inexpensive bulb because what matters is the upfront cost, not the cost of operating it. Consumers may have other reasons for choosing incandescent bulbs as well. The uncertainty surrounding these decisions are why it is difficult to model macro consumer response to this rule.

B. Review Under the Regulatory Flexibility Act

The Regulatory Flexibility Act (5 U.S.C. 601 et seq.) requires preparation of an initial regulatory flexibility analysis for any rule that by law must be proposed for public comment, and a final regulatory flexibility analysis (FRFA) for any such rule that an agency adopts as a final rule, unless the agency certifies that the rule, if promulgated, will not have a significant economic impact on a substantial number of small entities. As required by Executive Order 13272, “Proper Consideration of Small Entities in Agency Rulemaking,” 67 FR 53461 (August 16, 2002), DOE published procedures and policies on February 19, 2003, to ensure that the potential impacts of its rules on small entities are properly considered during the DOE rulemaking process. 68 FR 7990. DOE has made its procedures and policies available on the Office of the General Counsel's website: http://energy.gov/gc/office-general-counsel. DOE today is revising the Code of Federal Regulations to incorporate and implement, verbatim, energy conservation standards for rough service lamps and vibration service lamps prescribed by EPCA. Because this is an amendment for which a general notice of proposed rulemaking is not required under 5 U.S.C. 553 or any other law, the analytical requirements of the Regulatory Flexibility Act do not apply to this rulemaking.

C. Review Under the Paperwork Reduction Act

This rulemaking imposes no new information or record keeping requirements. Accordingly, Office of Management and Budget clearance is not required under the Paperwork Reduction Act. (44 U.S.C. 3501 et seq.)

D. Review Under the National Environmental Policy Act of 1969

Pursuant to the National Environmental Policy Act (NEPA) of 1969, DOE has determined that the rule fits within the category of actions included in Categorical Exclusion (CX) B5.1 and otherwise meets the requirements for application of a CX. (See 10 CFR part 1021, App. B, B5.1(b); 1021.410(b) and App. B, B(1)-(5).) The rule fits within this category of actions because it is a rulemaking that establishes energy conservation standards for consumer products or industrial equipment, and for which none of the exceptions identified in CX B5.1(b) apply. Therefore, DOE has made a CX determination for this rulemaking, and DOE does not need to prepare an Environmental Assessment or Environmental Impact Statement for this rule. DOE's CX determination for this rule is available at http://energy.gov/nepa/categorical-exclusion-cx-determinations-cx.

E. Review Under Executive Order 13132

Executive Order 13132, “Federalism,” 64 FR 43255 (Aug. 10, 1999) imposes certain requirements on Federal agencies formulating and implementing policies or regulations that preempt State law or that have Federalism implications. The Executive Order requires agencies to examine the constitutional and statutory authority supporting any action that would limit the policymaking discretion of the States and to carefully assess the necessity for such actions. The Executive Order also requires agencies to have an accountable process to ensure meaningful and timely input by State and local officials in the development of regulatory policies that have Federalism implications. On March 14, 2000, DOE published a statement of policy describing the intergovernmental consultation process it will follow in the development of such regulations. 65 FR 13735. DOE has examined this rule and has determined that it would not have a substantial direct effect on the States, on the relationship between the national government and the States, or on the distribution of power and responsibilities among the various levels of government. EPCA governs and prescribes Federal preemption of State regulations as to energy conservation for the products that are the subject of this final rule. States can petition DOE for exemption from such preemption to the extent, and based on criteria, set forth in EPCA. (42 U.S.C. 6297) Therefore, no further action is required by Executive Order 13132.

F. Review Under Executive Order 12988

With respect to the review of existing regulations and the promulgation of new regulations, section 3(a) of Executive Order 12988, “Civil Justice Reform,” imposes on Federal agencies the general duty to adhere to the following requirements: (1) Eliminate drafting errors and ambiguity, (2) write regulations to minimize litigation, (3) provide a clear legal standard for affected conduct rather than a general standard, and (4) promote simplification and burden reduction. 61 FR 4729 (Feb. 7, 1996). Regarding the review required by section 3(a), section 3(b) of Executive Order 12988 specifically requires that Executive agencies make every reasonable effort to ensure that the regulation (1) clearly specifies the preemptive effect, if any, (2) clearly specifies any effect on existing Federal law or regulation, (3) provides a clear legal standard for affected conduct while promoting simplification and burden reduction, (4) specifies the retroactive effect, if any, (5) adequately defines key terms, and (6) addresses other important issues affecting clarity and general draftsmanship under any guidelines issued by the Attorney General. Section 3(c) of Executive Order 12988 requires Executive agencies to review regulations in light of applicable standards in section 3(a) and section 3(b) to determine whether they are met or it is unreasonable to meet one or more of them. DOE has completed the required review and determined that, to the extent permitted by law, this final rule meets the relevant standards of Executive Order 12988.

G. Review Under the Unfunded Mandates Reform Act of 1995

Title II of the Unfunded Mandates Reform Act of 1995 (UMRA) requires each Federal agency to assess the effects of Federal regulatory actions on State, local, and Tribal governments and the private sector. Public Law 104-4, sec. 201 (codified at 2 U.S.C. 1531). For a regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)) The UMRA also requires a Federal agency to develop an effective process to permit timely input by elected officers of State, local, and Tribal governments on a “significant intergovernmental mandate,” and requires an agency plan for giving notice and opportunity for timely input to potentially affected small governments before establishing any requirements that might significantly or uniquely affect them. On March 18, 1997, DOE published a statement of policy on its process for intergovernmental consultation under UMRA. 62 FR 12820. DOE's policy statement is also available at http://energy.gov/sites/prod/files/gcprod/documents/umra_97.pdf.

DOE has concluded that this final rule does not require expenditures of $100 million or more in any one year by the private sector, so the Unfunded Mandates Reform Act does not apply.

H. Review Under the Treasury and General Government Appropriations Act, 1999

Section 654 of the Treasury and General Government Appropriations Act, 1999 (Pub. L. 105-277) requires Federal agencies to issue a Family Policymaking Assessment for any rule that may affect family well-being. This rule would not have any impact on the autonomy or integrity of the family as an institution. Accordingly, DOE has concluded that it is not necessary to prepare a Family Policymaking Assessment.

I. Review Under Executive Order 12630

Pursuant to Executive Order 12630, “Governmental Actions and Interference with Constitutionally Protected Property Rights,” 53 FR 8859 (March 18, 1988), DOE has determined that this rule would not result in any takings that might require compensation under the Fifth Amendment to the U.S. Constitution.

J. Review Under the Treasury and General Government Appropriations Act, 2001

Section 515 of the Treasury and General Government Appropriations Act, 2001 (44 U.S.C. 3516, note) provides for Federal agencies to review most disseminations of information to the public under information quality guidelines established by each agency pursuant to general guidelines issued by OMB. OMB's guidelines were published at 67 FR 8452 (Feb. 22, 2002), and DOE's guidelines were published at 67 FR 62446 (Oct. 7, 2002). DOE has reviewed this final rule under the OMB and DOE guidelines and has concluded that it is consistent with applicable policies in those guidelines.

K. Review Under Executive Order 13211

Executive Order 13211, “Actions Concerning Regulations That Significantly Affect Energy Supply, Distribution, or Use,” 66 FR 28355 (May 22, 2001), requires Federal agencies to prepare and submit to OIRA at OMB, a Statement of Energy Effects for any significant energy action. A “significant energy action” is defined as any action by an agency that promulgates or is expected to lead to promulgation of a final rule, and that (1) is a significant regulatory action under Executive Order 12866, or any successor order; and (2) is likely to have a significant adverse effect on the supply, distribution, or use of energy, or (3) is designated by the Administrator of OIRA as a significant energy action. For any significant energy action, the agency must give a detailed statement of any adverse effects on energy supply, distribution, or use should the proposal be implemented, and of reasonable alternatives to the action and their expected benefits on energy supply, distribution, and use.

DOE has concluded that this regulatory action is not a significant energy action because it is not likely to have a significant adverse effect on the supply, distribution, or use of energy, nor has it been designated as such by the Administrator at OIRA. Accordingly, DOE has not prepared a Statement of Energy Effects on this final rule.

L. Congressional Notification

As required by 5 U.S.C. 801, DOE will report to Congress on the promulgation of this rule prior to its effective date. The report will state that it has been determined that the rule is not a “major rule” as defined by 5 U.S.C. 804(2).

M. Description of Materials Incorporated by Reference

In this final rule, DOE incorporates by reference a commercial standard published by NSF International, NSF/ANSI 51 Food equipment materials. This standard applies specifically to materials and coatings used in the manufacturing of equipment and objects designed for contact with foodstuffs. Copies of NSF/ANSI 51 are reasonably available and may be purchased from NSF International, P.O. Box 130140, 789 North Dixboro Road, Ann Arbor, MI 48113-0140, 1-800-673-6275, or go to http://www.nsf.org.

V. Approval of the Office of the Secretary

The Secretary of Energy has approved publication of this final rule.

List of Subjects in 10 CFR Part 430

Administrative practice and procedure, Confidential business information, Energy conservation, Household appliances, Imports, Incorporation by reference, Intergovernmental relations, Small businesses.

Issued in Washington, DC, on December 18, 2017.
Daniel R Simmons,
Acting Assistant Secretary, Energy Efficiency and Renewable Energy.

For the reasons set forth in the preamble, DOE amends part 430 of chapter II, subchapter D, of title 10 of the Code of Federal Regulations, as set forth below:

PART 430—ENERGY CONSERVATION PROGRAM FOR CONSUMER PRODUCTS

1. The authority citation for part 430 continues to read as follows:

Authority: 42 U.S.C. 6291-6309; 28 U.S.C. 2461 note.

§ 430.3 [Amended]

2. In § 430.3, paragraph (s)(1) is amended by removing “§ 430.2.” and adding in its place “§§ 430.2 and 430.32.”

3. Section 430.32 is amended by adding paragraph (bb) to read as follows:

§ 430.32 Energy and water conservation standards and their compliance dates.

* * * * *

(bb) Rough service lamps and vibration service lamps. (1) Rough service lamps manufactured on or after January 25, 2018 must:

(i) Have a shatter-proof coating or equivalent technology that is compliant with NSF/ANSI 51 (incorporated by reference; see § 430.3) and is designed to contain the glass if the glass envelope of the lamp is broken and to provide effective containment over the life of the lamp;

(ii) Have a rated wattage not greater than 40 watts; and

(iii) Be sold at retail only in a package containing one lamp.

(2) Vibration service lamps manufactured on or after January 25, 2018 must:

(i) Have a rated wattage no greater than 40 watts; and

(ii) Be sold at retail only in a package containing one lamp.

[FR Doc. 2017-27744 Filed 12-22-17; 8:45 am]

BILLING CODE 6450-01-P